DEPARTMENT OF STATE

[Public Notice 7419]

Privacy Act; System of Records: State-52, Parking Permit and Car Pool Records

Summary: Notice is hereby given that the Department of State proposes to amend an existing system of records, Parking Permit and Car Pool Records, State-52, pursuant to the provisions of the Privacy Act of 1974, as amended (5 U.S.C. 552a) and Office of Management and Budget Circular No. A-130, Appendix I. The Department's report was filed with the Office of Management and Budget on March 29, 2011.

It is proposed that the current system will retain the name “Parking Permit and Car Pool Records.” It is also proposed that the amended system description will include revisions/additions to the following sections: Categories of individuals, Categories of records, Purpose, Safeguards and Retrievability as well as other administrative updates. The following sections have been added to the system of records, Parking Permit and Car Pool Records, State-52, to ensure Privacy Act of 1974 compliance: Purpose and Disclosure to Consumer Reporting Agencies. Any persons interested in commenting on the amended system of records may do so by submitting comments in writing to the Director, Office of Information Programs and Services, A/GIS/IPS, Department of State, SA-2, 515 22nd Street, Washington, DC 20522-8001. This system of records will be effective 40 days from the date of publication, unless we receive comments that will result in a contrary determination.

The amended system description, “Parking Permit and Car Pool Records, State-52,” will read as set forth below.

Dated: March 29, 2011.
Steven J. Rodriguez,
Deputy Assistant Secretary of Operations, Bureau of Administration, U.S. Department of State.

STATE-52

SYSTEM NAME:

Parking Permit and Car Pool Records.

SECURITY CLASSIFICATION:

Unclassified.

SYSTEM LOCATION:

Department of State, 2201 C Street NW., Washington, DC 20520.

CATEGORIES OF INDIVIDUALS COVERED BY THE SYSTEM:

Department of State, U.S. Agency for International Development (USAID) employees, and full time employees of private organizations who have permits for Department parking facilities; individuals who car pool with employees holding such permits; and persons interested in joining a car pool.

CATEGORIES OF RECORDS IN THE SYSTEM:

This system contains parking permit information: Full name; employee identification (ID) number of the employee issued the permit; year and make of car; license plate number and state of issuance; bureau; office telephone number and e-mail address; and type of parking permit and desired payment plan, if applicable. Car pool information: Name of member of car pool; employee ID number if employee is a Department of State direct-hire employee; office telephone number and e-mail address; make of car; license plate number and state of issuance; years of government service; commuting zone; and desired payment plan, if applicable. Records relating to requests for disability parking accommodations at the Department.

AUTHORITY FOR MAINTENANCE OF THE SYSTEM:

40 U.S.C. 121, Federal Management Regulation, Subchapter C (Real Property) at 41 CFR 102-74.265 through 74.310 (Parking Facilities).

PURPOSE:

The information in this system is collected to facilitate issuance and maintenance of parking permits for the Department of State and USAID personnel and full time employees of private organizations located in the Department's buildings. The information will be used to facilitate the formation of car pools with employees who have been issued parking permits.

ROUTINE USES OF RECORDS MAINTAINED IN THE SYSTEM, INCLUDING CATEGORIES OF USERS AND THE PURPOSES OF SUCH USES:

Information in this system may be disclosed to the:

(1) Department of Transportation (DOT) to ensure the permit holder does not receive dual transit benefits and

(2) Foreign Affairs Recreation Association (FARA) for the purpose of payment collection.

The Department of State periodically publishes in the Federal Register its standard routine uses that apply to all of its Privacy Act systems of records. These notices appear in the form of a Prefatory Statement. These standard routine uses apply to Parking Permit and Car Pool Records, State-52.

DISCLOSURE TO CONSUMER REPORTING AGENCIES:

None.

POLICIES AND PRACTICES FOR STORING, RETRIEVING, ACCESSING, RETAINING, AND DISPOSING OF RECORDS IN THE SYSTEM:

STORAGE:

Paper and Electronic.

RETERIVABILITY:

By the individual's name, employee ID number, parking permit number, and license plate number.

SAFEGUARDS:

All users are given cyber security awareness training which covers the procedures for handling Sensitive but Unclassified information, including personally identifiable information. Annual refresher training is mandatory. In addition, all Foreign Service and Civil Service employees and those Locally Engaged Staff (LES) who handle Personally Identifiable Information (PII) are required to take the FSI distance learning course instructing employees on privacy and security requirements, including the rules of behavior for handling PII and the potential consequences if it is handled improperly. Before being granted access to Parking Permit and Car Pool Records, a user must first be granted access to the Department of State computer system.

Remote access to the Department of State network from non-Department owned systems is authorized only through a Department approved access program. Remote access to the network is configured with the Office of Management and Budget Memorandum M-07-16 security requirements which include but are not limited to two-factor authentication and time out function.

All Department of State employees and contractors with authorized access have undergone a thorough background security investigation. Access to the Department of State, its annexes and posts abroad is controlled by security guards and admission is limited to those individuals possessing a valid identification card or individuals under proper escort. All paper records containing personal information are maintained in secured file cabinets in restricted areas, access to which is limited to authorized personnel only. Access to computerized files is password-protected and under the direct supervision of the system manager. The system manager has the capability of printing audit trails of access from the computer media, thereby permitting regular and ad hoc monitoring of computer usage.

When it is determined that a user no longer needs access, the user account is disabled.

RETENTION AND DISPOSAL:

These records will be maintained until they become inactive, at which time they will be retired or destroyed in accordance with published record schedules of the Department of State and as approved by the National Archives and Records Administration (NARA). More specific information may be obtained by writing to the Director; Office of Information Programs and Services (A/GIS/IPS); SA-2; Department of State; 515 22nd Street NW.; Washington, DC 20522-8001 or by fax at 202-261-8571.

SYSTEM MANAGER(S) AND ADDRESS:

Director, Office of General Services Management, A/OPR/GSM, Room B-258, Department of State, 2201 C Street NW., Washington, DC 20520.

NOTIFICATION PROCEDURE:

Individuals who have reason to believe that the Parking Permit and Car Pool Records might have information pertaining to them, should write to the Director, Office of Information Programs and Services; SA-2; Department of State; 515 22nd Street NW.; Washington, DC 20522-8001. The individual must specify that he or she wishes the Parking Permit and Car Pool Records to be checked. At a minimum, the individual should include: Name; employee ID number if a Department employee; current mailing address and zip code; signature; a brief description of the circumstances that caused the creation of the record; and the approximate dates which give the individual cause to believe that the Office of General Services Management has records pertaining to him or her.

RECORD ACCESS AND AMENDMENT PROCEDURES:

Individuals who wish to gain access to or amend records pertaining to them should write to the Director, Office of Information Programs and Services (address above).

CONTESTING RECORD PROCEDURES:

(See above).

RECORD SOURCE CATEGORIES:

By the individual.

SYSTEMS EXEMPTED FROM CERTAIN PROVISIONS OF THE ACT:

None.

[FR Doc. 2011-9734 Filed 4-20-11; 8:45 am]

BILLING CODE 4710-24-P